DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (“OFAC”) is publishing the names of four individuals and three entities whose property and interests in property have been blocked pursuant to the Foreign Narcotics Kingpin Designation Act (“Kingpin Act”) (21 U.S.C. 1901-1908, 8 U.S.C. 1182). OFAC is also publishing additional information for an individual who was previously designated pursuant to the Kingpin Act (21 U.S.C. 1901-1908, 8 U.S.C. 1182).

DATES: The designation by the Director of OFAC of the four individuals and three entities identified in this notice and the additional identifying information for one individual pursuant to section 805(b) of the Kingpin Act is effective on June 27, 2012.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On June 27, 2012, the Director of OFAC designated the following four individuals and three entities whose property and interests in property are blocked pursuant to section 805(b) of the Kingpin Act.

Individuals

1. CHIBLI, Ibrahim (a.k.a. SHIBLI SHIBLI, Ibrahim); DOB 10 Oct 1965; POB Sour, Lebanon; nationality Lebanon (individual) [SDNTK].

2. HARB, Abbas Hussein (a.k.a. HARB, Abass Hussein), Ave Pedro Melean, cruce con Calle No. 73, Local No. 22, Sector Santa Rosa, Valencia, Venezuela; Calle 10A No.12-21, Maicao, Colombia; Carrera 70 No. 76-50 BG 3, Barranquilla, Colombia; Calle 10 No 11-63, Maicao, Colombia; DOB 11 Nov 1979; POB Lebanon; Passport 1368212 (Venezuela); NIT # 6390001813 (Colombia); National ID No. 21495203 (Venezuela); alt. National ID No. 22465548 (Venezuela); National Foreign ID Number 264521 (Colombia); Matricula Mercantil No 398329 (Colombia); alt. Matricula Mercantil No 398330 (Colombia); alt. Matricula Mercantil No 076592 (Colombia); alt. Matricula Mercantil No 041789 (Colombia) (individual) [SDNTK] Linked To: IMPORTADORA SILVANIA; Linked To: IMPORTADORA SILVANIA, C.A.

3. SALEH, Kassem Mohamad (a.k.a. SALEH, Qasim), Calle 10A # 11A-02, Maicao, Colombia; Ave Pedro Melean, cruce con Calle No. 73, Local No. 22, Sector Santa Rosa, Valencia, Venezuela; DOB 10 Feb 1980; nationality Lebanon; Passport 1243712 (Lebanon); NIT # 6390003192 (Colombia); National Foreign ID Number 264619 (Colombia); alt. National Foreign ID Number 22075502 (Venezuela); Matricula Mercantil No 0081931 (individual) [SDNTK] Linked To: IMPORTADORA SILVANIA, C.A.; Linked To: BODEGA MICHIGAN.

4. HARB, Ali Houssein (a.k.a. HARB, Ali Hussein), Calle 10A No. 11-63, Maicao, La Guajira, Colombia; Calle 13 No. 10-34 Centro, Maicao, La Guajira, Colombia; DOB 11 Aug 1976; alt. DOB 19 Aug 1976; nationality Lebanon; National ID No. 26405022 (Venezuela); National Foreign ID Number 254291 (Colombia) (individual) [SDNTK].

Entities

5. BODEGA MICHIGAN, Calle 10A 11A-02, Maicao, Colombia; Matricula Mercantil No 0081931 (Colombia) [SDNTK].

6. IMPORTADORA SILVANIA, Carerra 70 No. 76-50 BG 3, Barranquilla, Colombia; Calle 10A No.12-21, Maicao, Colombia; Matricula Mercantil No 398330 (Colombia) [SDNTK].

7. IMPORTADORA SILVANIA, C.A., Ave Pedro Melean, cruce con Calle 73, Local No. 22, Sector Santa Rosa, Valencia, Carabobo, Venezuela; Tax ID No. RIF J-31069374-9 (Venezuela) [SDNTK].

On June 27, 2012, the Director of OFAC made additions to the identifying information for the following individual who was previously designated pursuant to the Kingpin Act:

SALEH, Ali Mohamad, c/o ALMACEN BATUL; c/o COMERCIAL ESTILO Y MODA; DOB 1 Jan 1974; Cedula No. 1124006380 (Colombia) (individual) [SDNTK].

The listing appears as follows:

SALEH, Ali Mohamad (a.k.a. SALAH, Ali Mohammad; a.k.a. SALEH, Ali Mohamed; a.k.a. SALEH, Ali Mohammad; a.k.a. SALIH, Ali Abd-Al-Amir Muhammad; a.k.a. SALIH, Ali Muhammad; a.k.a. SALIH, Ali Muhammad Abd-Al-Amir); DOB 01 Jan 1974; POB Adchit, Lebanon; Cedula No. 1124006380 (Colombia); Passport AJ911608 (Colombia); alt. Passport 2071362 (Lebanon); alt. Passport 1183967 (Lebanon) (individual) [SDNTK] [SDGT] Linked To: ALMACEN BATUL; Linked To: COMERCIAL ESTILO Y MODA.

Dated: June 27, 2012.
Adam J. Szubin,
Director, Office of Foreign Assets Control.

[FR Doc. 2012-16204 Filed 7-2-12; 8:45 am]

BILLING CODE 4810-AL-P